DEPARTMENT OF COMMERCE

International Trade Administration

[A-357-818]

2016 Agreement Suspending the Antidumping Duty Investigation on Lemon Juice From Argentina; Final Results of the Expedited Second Sunset Review of the Suspension Agreement

AGENCY: Enforcement and Compliance, International Trade Administration, Department of Commerce.

SUMMARY: As a result of this sunset review, the U.S. Department of Commerce (Commerce) finds that termination of the 2016 Agreement Suspending the Antidumping Duty Investigation on Lemon Juice from Argentina (2016 Agreement) and the suspended antidumping duty investigation would be likely to lead to continuation or recurrence of dumping at the levels indicated in the “Final Results of Review” section of this notice.

DATES: Applicable: January 4, 2022.

FOR FURTHER INFORMATION CONTACT: Sally C. Gannon or Jill Buckles, Bilateral Agreements Unit, Enforcement and Compliance, International Trade Administration, U.S. Department of Commerce, 1401 Constitution Avenue NW, Washington, DC 20230, telephone: (202) 482-0162 or (202) 482-6230, respectively.

SUPPLEMENTARY INFORMATION:

Background

On September 1, 2021, Commerce published the notice of initiation of the second sunset review of the suspended investigation of lemon juice from Argentina,¹ pursuant to section 751(c) of the Tariff Act of 1930, as amended (the Act).² On September 15, 2021, Commerce received a timely and complete notice of intent to participate from domestic interested party Ventura Coastal LLC (Ventura Coastal) within the deadline specified in 19 CFR 351.218(d)(1)(i).³ Ventura Coastal claimed interested party status under section 771(9)(C) of the Act.

¹ See Lemon Juice from Argentina: Continuation of Suspension of Antidumping Investigation, 81 FR 74395 (October 26, 2016).

² See Initiation of Five-Year (Sunset) Reviews, 86 FR 48983 (September 1, 2021).

³ See Ventura Coastal's Letter, “2nd Five-Year (`Sunset') Review of Agreement to Suspend Antidumping Investigation of Lemon Juice from Argentina: Notice of Intent to Participate,” dated September 15, 2021.

On October 1, 2021, Commerce received an adequate substantive response from Ventura Coastal within the 30-day deadline specified in 19 CFR 351.218(d)(3)(i).⁴ Commerce did not receive a substantive response from any respondent interested party and no hearing was requested. As a result, pursuant to section 751(c)(3)(B) of the Act and 19 CFR 351.218(e)(1)(ii)(C)(2), Commerce conducted an expedited (120-day) sunset review of the 2016 Agreement and suspended investigation.

⁴ See Ventura Coastal's Letter, “2nd Five-Year (`Sunset') Review of the Agreement to Suspend the Antidumping Duty Investigation of Lemon Juice from Argentina: Substantive Response of Domestic Interested Party,” dated October 1, 2021.

Scope of the 2016 Agreement

The product covered by the 2016 Agreement is lemon juice for further manufacture, with or without addition of preservatives, sugar, or other sweeteners, regardless of the GPL (grams per liter of citric acid) level of concentration, brix level, brix/acid ratio, pulp content, clarity, grade, horticulture method (e.g., organic or not), processed form (e.g., frozen or not-from-concentrate), FDA standard of identity, the size of the container in which packed, or the method of packing.

Excluded from the scope are: (1) Lemon juice at any level of concentration packed in retail-sized containers ready for sale to consumers, typically at a level of concentration of 48 GPL; and (2) beverage products such as lemonade that typically contain 20% or less lemon juice as an ingredient.

Lemon juice is classifiable under subheadings 2009.39.6020, 2009.31.6020, 2009.31.4000, 2009.31.6040, and 2009.39.6040 of the Harmonized Tariff Schedule of the United States (HTSUS). While HTSUS subheadings are provided for convenience and customs purposes, our written description of the scope of the 2016 Agreement is dispositive.

Analysis of Comments Received

All issues raised in this sunset review are addressed in the accompanying Issues and Decision Memorandum.⁵ The Issues and Decision Memorandum is a public document and is on file electronically via Enforcement and Compliance's Antidumping and Countervailing Duty Centralized Electronic Service System (ACCESS). ACCESS is available to registered users at https://access.trade.gov. A list of topics discussed in the Issues and Decision Memorandum is included as an appendix to this notice. A complete version of the Issues and Decision Memorandum can be accessed at https://access.trade.gov/public/FRNoticesListLayout.aspx.

⁵ See Memorandum, “Issues and Decision Memorandum for the Final Results of the Expedited Sunset Review of the 2016 Agreement Suspending the Antidumping Duty Investigation on Lemon Juice from Argentina,” dated concurrently with and hereby adopted by this notice (Issues and Decision Memorandum).

Final Results of Review

Pursuant to sections 751(c)(1) and 752(c) of the Act, Commerce determines that termination of the 2016 Agreement and suspended investigation of lemon juice from Argentina would likely lead to continuation or recurrence of dumping, and that the magnitude of the weighted-average dumping margins likely to prevail are up to 128.50 percent.⁶

⁶ See Lemon Juice from Argentina: Preliminary Determination of Sales at Less Than Fair Value and Affirmative Preliminary Determination of Critical Circumstances, 72 FR 20820 (April 26, 2007).

Notification Regarding Administrative Protective Order

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act and 19 CFR 351.218.

Dated: December 29, 2021.
Ryan Majerus,
Deputy Assistant Secretary for Policy & Negotiations, Performing the Non-Exclusive Functions and Duties of the Assistant Secretary for Enforcement and Compliance.

Appendix

List of Topics Discussed in the Issues and Decision Memorandum

I. Summary

II. Background

III. Scope of the Agreement

IV. History of the Current and Prior Agreements

V. Legal Framework

VI. Discussion of the Issues

1. Likelihood of Continuation or Recurrence of Dumping

2. Magnitude of the Dumping Margins Likely to Prevail

VII. Final Results of Expedited Sunset Review

VIII. Recommendation

[FR Doc. 2021-28506 Filed 1-3-22; 8:45 am]

BILLING CODE 3510-DS-P